DEPARTMENT OF HEALTH AND HUMAN SERVICES

Centers for Disease Control and Prevention

[Program Announcement 01114]

Use of Logical Observations, Identifiers, and Names (LOINC) to Standardize the Electronic Exchange of Public Health Data; Notice of Availability of Funds

A. Purpose

The Centers for Disease Control and Prevention (CDC) announces the availability of fiscal year (FY) 2001 funds for a grant program for “Use of Logical Observations, Identifiers, and Names (LOINC) to Standardize the Electronic Exchange of Public Health Data.” This program addresses the “Healthy People 2010” focus areas of Cancer.

The purpose of this program is to: (1) Promote analyzation and evaluation of the LOINC vocabulary, a set of formal names and codes for clinical variables and laboratory test names applied with other numeric, coded, or narrative text values; (2) promote assessment and implementation of additional enhancements for the current data mapping tool which is Regenstrief LOINC Mapping Assistant (RELMA) as needed; (3) assessment and promotion of educational material which can be presented in appropriate settings such as workshops and conferences to illustrate how the mapping tool and LOINC vocabulary can be used; (4) analysis and refinement of additional semantic enhancements to the code sets based on previous findings (i.e., brief descriptions or names provided for each LOINC code) and evaluate the need for relationships to other code sets such as the International Classification of Disease (ICD) series or vocabularies (i.e., Systematized Nomenclature of Medicine, (SNOMED)); and (5) assessment of the need for and growth of enhancements to code set management and code set assignment (i.e methods to group domain areas to identify specific needs).

B. Eligible Applicants

Assistance will be provided only to the Regenstrief Institute for Health Care, a non-profit organization. No other applications are solicited.

The LOINC vocabulary is developed and managed only by the Regenstrief Institute for Health Care. The Regenstrief Institute for Health Care's mission is to conduct research to improve health care by improving the capture, analysis, content and delivery of the information needed by patients, their health care providers and policy makers, and to conduct intervention studies designed to measure the effect of the application of this research on the efficiency and quality of health care. The vocabulary of codes is freely distributed over the Web at the Regenstrief Web site. The Regenstrief Institute grants permission, without written agreement and without license or royalty fees, to use, copy, or distribute the LOINC codes, LOINC User's Guide, and the contents of the LOINC database for any purpose, so long as a copyright notice appears on any copies of the LOINC database and User's Guide, and that certain criteria are met. The Regenstrief Institute is the only organization which maintains and develops these standard codes.

Note: Title 2 of the United States Code, Chapter 26, Section 1611 states that an organization described in section 501(c)(4) of the Internal Revenue Code of 1986 that engages in lobbying activities is not eligible to receive Federal funds constituting an award, grant, cooperative agreement, contract, loan, or any other form.

C. Availability of Funds

Approximately $100,000 is available in FY 2001 to fund one award. It is expected that the award will begin on or about September 30, 2001, and will be made for a 12-month budget period within a project period of up to five years. Funding estimates may change.

Continuation award within an approved project period will be made on the basis of satisfactory progress as evidenced by required reports and the availability of funds.

D. Program Requirements

In conducting activities to achieve the purpose of this program, the recipient will be responsible for the following activities:

1. Assess the need for enhancement of the LOINC vocabulary. Based on the findings, develop recommendations and implement the findings for enhancement of the LOINC vocabulary.

2. Develop recommendations and implement the findings for additional enhancements for the current data mapping tool, RELMA.

3. Assess the need for and develop educational materials that can be presented at workshops and conferences (e.g., APHA, NAACCR, and clinical laboratory meetings) to demonstrate how the mapping tool and codes are used.

4. Develop recommendations and implement the recommendations for additional semantic enhancements to the code sets.

5. Develop recommendations and implement the recommendations for enhancements for code set management and code set assignment.

6. Disseminate the findings.

E. Application Content

Use the information in the Program Requirements, Other Requirements, and Evaluation Criteria sections to develop the application content. Your application will be evaluated on the criteria listed, so it is important to follow them in laying out your program plan. The narrative, not including appendices, should be no more than 20 double-spaced pages, printed on one-side, with one inch margins, and unreduced font. Pages should be clearly numbered and a complete index to the application and any appendixes included. The original and each copy of the application should be submitted unstapled and unbound.

1. Executive Summary

Provide a clear, concise, and objectively written statement of the major objectives and components of the proposed activities.

2. Existing Resources and Needs Assessment

Describe the current activities related to the development and enhancements of the LOINC vocabulary, the mapping tool, RELMA or other necessary enhancements for LOINC code management and the need for enhancement.

3. Collaborative Relationships

Describe collaborative relationships with other agencies and organizations relevant to exchanging clinical and laboratory information electronically using a standard exchange format such as Health Level 7.

4. Operational Plan

Describe the objectives for the proposed project. The applicant should describe the specific outcome and process objectives that will be measured, the major steps required and a projected timetable for completion that displays time-lines for the accomplishment of specific proposed activities.

5. Management and Staffing Plan

Describe how the program will be effectively managed including:

a. Management structure including the lines of authority and plans for fiscal control.

b. Qualifications and experience of the designated staff.

c. The staff positions responsible for implementation of the program.

6. Budget and Justification

Provide a detailed budget request and line-item justification of all proposed operating expenses.

F. Submission and Deadline

Application

Submit the original and two copies of PHS 5161-1 (OMB Number 0920-0428). Forms are available in the application kit and at the following Internet address: http://forms.pcs.gov. On or before July 15, 2001, submit the application to the Grants Management Specialist identified in the “Where to Obtain Additional Information” section of this announcement.

G. Evaluation Criteria

Application

The application will be evaluated individually against the following criteria by an independent review group appointed by CDC.

1. Resources and Needs Assessment: (25 points)

The extent to which the applicant describes how the current activities relating to the development of the LOINC vocabulary and the mapping tool and the identification and need for other necessary enhancements for LOINC code management and the need for enhancement.

2. Collaboration: (20 points)

The extent to which the applicant provides evidence of collaborative relationships with other agencies and organizations relevant to exchanging clinical and laboratory information electronically using a standard exchange format such as Health Level 7 and other possible methods.

3. Proposed Objectives: (30 points)

The extent to which the applicant describes the specific outcome and process objectives for the proposed project; how they will be measured, and the major steps required to meet the objectives.

4. Operational Plan: (10 points)

The extent to which the projected timetable for completion of objectives and for meeting objectives is reasonable and realistic.

5. Project Management and Staffing Plan: (15 points)

The extent to which the applicant describes the management structure and staff positions with clear lines of authority and plans for fiscal control for proposed project staff and qualifications and experience of the proposed staff.

6. Budget: (Not Scored)

The extent to which the applicant provides a detailed budget and justification consistent with the proposed program objectives and activities.

H. Other Requirements

Technical Reporting Requirements

Provide CDC with original plus two copies of

1. Annual progress reports which includes:

a. A brief program description;

b. A comparison of the actual accomplishments to the goals and objectives established for the period; and

c. If established goals and objectives were not accomplished or were delayed, describe both the reason for the deviation and anticipated corrective action or deletion of the activity from the project.

2. Financial status report, no more than 90 days after the end of the budget period; and

3. Final financial and performance reports, no more than 90 days after the end of the project period.

Send all reports to the Grants Management Specialist identified in the “Where to Obtain Additional Information” section of this announcement.

The following additional requirements are applicable to this program. For a complete description of each, see Attachment I of the announcement.

AR-10 Smoke-Free Workplace Requirements

AR-11 Healthy People 2010

AR-12 Lobbying Restrictions

AR-14 Accounting System Requirements

AR-15 Proof of Non-Profit Status

I. Authority and Catalog of Federal Domestic Assistance Number

This program is authorized under section 317(k)(2) of the Public Health Service Act, (42 U.S.C. 247b (k)(2)), as amended. The Catalog of Federal Domestic Assistance number is 93.283.

J. Where to Obtain Additional Information

This and other CDC announcements can be found on the CDC home page Internet address—http://www.cdc.gov Click on “Funding” then “Grants and Cooperative Agreements.” To obtain business management technical assistance, contact: Glynnis Taylor, Grants Management Specialist, Grants Management Branch, Procurement and Grants Office, Centers for Disease Control and Prevention, Announcement 01114, 2920 Brandywine Road, Room 3000, Atlanta, GA 30341-4146, Telephone number: (770) 488-2752, Email address: gld1@cdc.gov.

For program technical assistance, contact: Warren Williams, MPH, Health Scientist, Cancer Surveillance Branch, Division of Cancer Prevention and Control, National Center for Chronic Disease Prevention and Health Promotion, Centers for Disease Control and Prevention, 4770 Buford Hwy., NE (MS—K53), Atlanta, GA 30341-3717, Telephone number: (770) 488-3095, Email address: wwilliams1@cdc.gov.

Dated: June 6, 2001.
John L. Williams
Director, Procurement and Grants Office, Centers for Disease Control and Prevention (CDC).

[FR Doc. 01-14721 Filed 6-11-01; 8:45 am]

BILLING CODE 4163-18-P